DEPARTMENT OF THE INTERIOR

Fish and Wildlife Service

Klamath Fishery Management Council Meeting

AGENCY: Fish and Wildlife Service, Interior.

ACTION: Notice of meeting.

SUMMARY: Pursuant to section 10(a)(2) of the Federal Advisory Committee Act (5 U.S.C. App. I), this notice announces a meeting of the Klamath Fishery Management Council, established under the authority of the Klamath River Basin Fishery Resources Restoration Act (16 U.S.C. 460ss et seq.). The Klamath Fishery Management Council makes recommendations to agencies that regulate harvest of anadromous fish in the Klamath River Basin. The objectives of this meeting are to hear technical reports (including the ocean stock projection for Klamath River fall chinook in 2001), review the 2000 fishery season, and discuss and plan management of the 2001 season. The meeting is open to the public.

DATES: The Klamath Fishery Management Council will meet from 8:30 a.m. to 5 p.m. on Thursday, February 22, 2001; and from 8 a.m. to 12 p.m. on Friday, February 23, 2001.

Place: The meeting will be held at the Yurok Tribal Office, Highway 96, Weitchpec, California.

FOR FURTHER INFORMATION CONTACT: Dr. Ronald A. Iverson, Project Leader, Fish and Wildlife Service, 1829 South Oregon Street, Yreka, California 96097, telephone (530) 842-5763.

SUPPLEMENTARY INFORMATION: For background information on the Klamath Council, please refer to the notice of their initial meeting that appeared in the Federal Register on July 8, 1987 (52 FR 25639).

Dated: February 7, 2001.
Elizabeth H. Stevens,
Acting California/Nevada Operations Manager, California/Nevada Office, Fish and Wildlife Service.

[FR Doc. 01-3991 Filed 2-15-01; 8:45 am]

BILLING CODE 4310-55-P